ENVIRONMENTAL PROTECTION AGENCY

[EPA-HQ-OPPT-2012-0209; FRL-9952-43]

Receipt of Information Under the Toxic Substances Control Act

AGENCY: Environmental Protection Agency (EPA).

ACTION: Notice.

SUMMARY: EPA is announcing its receipt of information submitted pursuant to an Enforceable Consent Agreement (ECA) issued by EPA under the Toxic Substances Control Act (TSCA). As required by TSCA, this document identifies each chemical substance and/or mixture for which information has been received; the uses or intended uses of such chemical substance and/or mixture; and the information required by the applicable protocols and methodologies for the development of information; and describes the nature of the information received. Each chemical substance and/or mixture related to this announcement is identified in Unit I. under SUPPLEMENTARY INFORMATION.

FOR FURTHER INFORMATION CONTACT:

For technical information contact: Kathy Calvo, Chemical Control Division (7405M), Office of Pollution Prevention and Toxics, Environmental Protection Agency, 1200 Pennsylvania Ave. NW., Washington, DC 20460-0001; telephone number: (202) 564-8089; email address: calvo.kathy@epa.gov.

For general information contact: The TSCA-Hotline, ABVI-Goodwill, 422 South Clinton Ave., Rochester, NY 14620; telephone number: (202) 554-1404; email address: TSCA-Hotline@epa.gov.

SUPPLEMENTARY INFORMATION:

I. Chemical Substances and/or Mixtures

Information about the following chemical substance and/or mixture is provided in Unit IV.: Octamethylcyclotetrasiloxane (D4) (CASRN 556-67-2).

II. Federal Register Publication Requirement

Section 4(d) of TSCA (15 U.S.C. 2603(d)) requires EPA to publish a notice in the Federal Register reporting the receipt of information submitted pursuant to ECAs promulgated under TSCA section 4(a) (15 U.S.C. 2603).

III. Docket Information

A docket, identified by the docket identification (ID) number EPA-HQ-OPPT-2013-0677, has been established for this Federal Register document that announces the receipt of information. Upon EPA's completion of its quality assurance review, the information received will be added to the docket for the ECA that required the information. Use the docket ID number provided in Unit IV. to access the information in the docket for the related ECA.

The docket for this Federal Register document and the docket for each related ECA is available electronically at http://www.regulations.gov or in person at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

IV. Information Received

This unit contains the information required by TSCA section 4(d) for the information received by EPA.

Octamethylcyclotetrasiloxane (D4) (CASRN 556-67-2).

1. Chemical Uses: D4 is used as an intermediate for silicone copolymers and other chemicals. D4 is also used in industrial processing applications as a solvent (which becomes part of a product formulation or mixture), finishing agent, and an adhesive and sealant chemical. It is also used for both consumer and commercial purposes in paints and coatings, and plastic and rubber products and has consumer uses in polishes, sanitation, soaps, detergents, adhesives, and sealants.

2. Applicable ECA: Final Enforceable Consent Agreement for Environmental Testing for Octamethylcyclotetrasiloxane (D4); (CASRN 556-67-2).

3. Information Received: The following listing describes the nature of the information received. The information will be added to the docket for the applicable ECA and can be found by referencing the docket ID number provided. EPA reviews of information will be added to the same docket upon completion.

Field Sampling of Benthic Organisms. The docket ID number assigned to this information is EPA-HQ-OPPT-2012-0209.

Authority: 15 U.S.C. 2601 et seq.

Dated: September 19, 2016.
Maria J. Doa,
Director, Chemical Control Division, Office of Pollution Prevention and Toxics.

[FR Doc. 2016-23172 Filed 9-23-16; 8:45 am]

BILLING CODE 6560-50-P